INTERNATIONAL TRADE COMMISSION

[Investigation No. 731-TA-1658 (Final)]

Truck and Bus Tires From Thailand

Determination

On the basis of the record ¹ developed in the subject investigation, the United States International Trade Commission (“Commission”) determines, pursuant to the Tariff Act of 1930 (“the Act”), that an industry in the United States is materially injured by reason of imports of truck and bus tires from Thailand, provided for in subheadings 4011.20.10 and 4011.20.50 of the Harmonized Tariff Schedule of the United States, that have been found by the U.S. Department of Commerce (“Commerce”) to be sold in the United States at less than fair value (“LTFV”).2 3

¹ The record is defined in § 207.2(f) of the Commission's Rules of Practice and Procedure (19 CFR 207.2(f)).

² 89 FR 83636 (October 17, 2024).

³ The Commission also finds that imports subject to Commerce's affirmative critical circumstances determination are not likely to undermine seriously the remedial effect of the antidumping duty order on Thailand.

Background

The Commission instituted this investigation effective October 17, 2023, following receipt of a petition filed with the Commission and Commerce by the United Steel, Paper and Forestry, Rubber, Manufacturing, Energy, Allied Industrial and Service Workers International Union, AFL-CIO, CLC, Pittsburgh, Pennsylvania. The Commission scheduled the final phase of the investigation following notification of a preliminary determination by Commerce that imports of truck and bus tires from Thailand were being sold at LTFV within the meaning of § 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of June 12, 2024 (89 FR 49903). The Commission conducted its hearing on October 15, 2024. All persons who requested the opportunity were permitted to participate.

The Commission made this determination pursuant to § 735(b) of the Act (19 U.S.C. 1673d(b)). It completed and filed its determination in this investigation on December 2, 2024. The views of the Commission are contained in USITC Publication 5562 (December 2024), entitled Truck and Bus Tires from Thailand: Investigation No. 731-TA-1658 (Final).

By order of the Commission.
Issued: December 2, 2024.
Lisa Barton,
Secretary to the Commission.

[FR Doc. 2024-28513 Filed 12-5-24; 8:45 am]

BILLING CODE 7020-02-P